DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended (42 U.S.C. 2160). The Department is providing notice of a proposed subsequent arrangement under the Agreement for Cooperation Concerning Civil Uses of Nuclear Energy Between the Government of the United States of America and the Government of Canada and the Agreement for Cooperation Between the United States of America and the Government of the Republic of Korea Concerning Civil Uses of Atomic Energy.

This subsequent arrangement concerns the retransfer of 29,887 kg of U.S.-origin natural uranium dioxide (88.00% U), 26,300 kg of which is uranium, from Cameco Corporation (Cameco) in Port Hope, Ontario, Canada, to Korea Nuclear Fuel Co. Ltd. in Yuson-Gu, Taejon, South Korea. The material, which is currently located at Cameco, will be transferred for fuel fabrication by Korea Nuclear Fuel Co. Ltd for final use in a civilian nuclear reactor power program by Korea Hydro & Nuclear Power Co. Ltd. The material was originally obtained by Cameco from Crowe Butte Resources pursuant to export license XSOU8798.

In accordance with section 131a. of the Atomic Energy Act of 1954, as amended, it has been determined that this subsequent arrangement will not be inimical to the common defense and security.

This subsequent arrangement will take effect no sooner than January 13, 2011.

Dated: December 20, 2010.
For the Department of Energy.
Thomas P. D'Agostino,
Administrator, National Nuclear Security Administration.

[FR Doc. 2010-32824 Filed 12-28-10; 8:45 am]

BILLING CODE 6450-01-P